DEPARTMENT OF THE INTERIOR

Geological Survey

[Docket No. USGS-2025-0014; OMB Control Number 1028-0051; GX.25.GG00.99600.00]

Agency Information Collection Activities; Earthquake Hazards Program Research and Monitoring

AGENCY: U.S. Geological Survey, Interior.

ACTION: Notice of Information Collection; request for comment.

SUMMARY: In accordance with the Paperwork Reduction Act (PRA) of 1995, the U.S. Geological Survey (USGS) is proposing to renew an information collection.

DATES: Interested persons are invited to submit comments on or before September 19, 2025.

ADDRESSES: You may submit comments by one of the following methods:

Internet: https://www.regulations.gov. Search for and submit comments on Docket No. USGS-2025-0014.

U.S. Mail: USGS, Information Collections Clearance Officer, 12201 Sunrise Valley Drive, MS 159, Reston, VA 20192.

FOR FURTHER INFORMATION CONTACT: Jill Franks, USGS Earthquake Hazards Program, by email at jfranks@usgs.gov, or by telephone at 571-294-1718. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the PRA (44 U.S.C. 3501 et seq.) and 5 CFR 1320.8(d)(1), all information collections require approval under the PRA. As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How the agency might minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personally identifiable information (PII) in your comment, you should be aware that your entire comment—including your PII—may be made publicly available at any time. While you can ask us in your comment to withhold your PII from public review, we cannot guarantee that we will be able to do so.

Abstract: Research and monitoring findings are essential to fulfilling the USGS's responsibility under the Earthquake Hazards Reduction Act to develop earthquake hazard assessments and record earthquake activity nationwide. Residents, emergency responders, engineers, and the general public rely on the USGS for this accurate and scientifically sound information. The USGS Earthquake Hazards Program funds external investigators to carry out these important activities. In response to our program announcements, investigators submit proposals for research and monitoring activities on earthquake hazard assessments, earthquake causes and effects, and earthquake monitoring. This information is used as the basis for selection and award of projects meeting the USGS's Earthquake Hazards Program objectives. Final reports of research and monitoring findings are required for each funded proposal; annual progress reports are required for awards of a two- to five-year duration. Final reports are made available to the general public at the website https://www.usgs.gov/programs/earthquake-hazards/science/external-grants.

Title of Collection: Earthquake Hazards Program Research and Monitoring.

OMB Control Number: 1028-0051.

Form Number: None.

Type of Review: Extension of a currently approved collection.

Respondents/Affected Public: Research scientists, engineers, and the general public.

Total Estimated Number of Annual Respondents: 370 (250 applications and narratives and 120 annual and final reports).

Total Estimated Number of Annual Responses: 370 (250 applications and narratives and 120 annual and final reports).

Estimated Completion Time per Response: 45 hours per proposal application response and 9 hours per final or annual progress report.

Total Estimated Number of Annual Burden Hours: 12,330 (11,250 hours per application and 1,080 hours per final or annual progress report).

Respondent's Obligation: Participation is voluntary, but necessary to receive benefits.

Frequency of Collection: Annually and once every 3 to 5 years, depending on the duration of the award.

Total Estimated Annual Nonhour Burden Cost: There are no non-hour cost burdens associated with this Information Collection.

An agency may not conduct or sponsor, nor is a person is required to respond to a collection of information unless it displays a currently valid OMB control number.

The authority for this action is the PRA of 1995 (44 U.S.C. 3501 et seq.).

Jill Franks,
Associate Program Coordinator, External Grants, USGS, Natural Hazards.

[FR Doc. 2025-13671 Filed 7-18-25; 8:45 am]

BILLING CODE 4338-11-P